INTERNATIONAL TRADE COMMISSION

[Investigations Nos. 701-TA-302 (Review) and 731-TA-454 (Review)]

Fresh and Chilled Atlantic Salmon From Norway

Determinations

On the basis of the record ¹ developed in the subject five-year reviews, the United States International Trade Commission determines, pursuant to section 751(c) of the Tariff Act of 1930 (19 U.S.C. 1675(c)), that revocation of the countervailing duty and antidumping duty orders on fresh and chilled Atlantic salmon from Norway would be likely to lead to continuation or recurrence of material injury to an industry in the United States within a reasonably foreseeable time.

¹ The record is defined in sec. 207.2(f) of the Commission's Rules of Practice and Procedure (19 CFR 207.2(f)).

Background

The Commission instituted these reviews on July 1, 1999 (64 F.R. 35680, July 1, 1999) and determined on October 1, 1999 that it would conduct expedited reviews (64 F.R. 55957, October 15, 1999). The Commission transmitted its determinations in these reviews to the Secretary of Commerce on February 24, 2000. The views of the Commission are contained in USITC Publication 3282 (February 2000), entitled Fresh and Chilled Atlantic Salmon from Norway: Investigations Nos. 701-TA-302 (Review) and 731-TA-454 (Review).

Issued: February 23, 2000.
By order of the Commission.
Donna R. Koehnke,
Secretary.

[FR Doc. 00-4907 Filed 2-29-00; 8:45 am]

BILLING CODE 7020-02-P